ENVIRONMENTAL PROTECTION AGENCY

[FRL-7146-6]

Office of Research and Development; Agency Information Collection Activities: Proposed Collection; Comment Request; Health Effects of Microbial Pathogens in Recreational Waters

AGENCY: Environmental Protection Agency (EPA).

ACTION: Notice.

SUMMARY: In compliance with the Paperwork Reduction Act (44 U.S.C. 3501 et seq.), this notice announces that the EPA is planning to submit the following Information Collection Request (ICR) to the Office of Management and Budget (OMB).

TITLE: Health Effects of Microbial Pathogens in Recreational Waters.

Before submitting the ICR to OMB for review and approval, the EPA is soliciting comments on specific aspects of the proposed information collection as described below.

DATES: Comments must be submitted on or before April 16, 2002.

ADDRESSES: Public comments should be submitted to: Dr. Rebecca L. Calderon, US EPA (M D 58-C), Research Triangle Park, NC 27711.

FOR FURTHER INFORMATION CONTACT: Interested persons may obtain a copy of the ICR without charge by contacting: Dr. Rebecca L. Calderon, (919) 966-0617, FAX: (919) 966-0655, E-mail: calderon.rebecca@epamail.epa.gov, or by mailing a request to the address above.

SUPPLEMENTARY INFORMATION:

Affected entities: Entities potentially affected by this action are families frequenting fresh and marine water beaches in the continental United States.

Title: Health Effects of Microbial Pathogens in Recreational Waters.

Abstract: This study will be conducted, and the information collected, by the Epidemiology and Biomarkers Branch, Human Studies Division, National Health and Environmental Effects Research Laboratory, Office of Research and Development, U.S. Environmental Protection Agency (EPA). Participation of adults and children in this collection of information is strictly voluntary.

This information is being collected as part of a research program consistent with the Sec. 3(a)(v)(1) of the Beaches Environmental Assessment and Coastal Health Act of 2000 and the strategic plan for EPA's Office of Research and Development (ORD) and the Office of Water entitled “Action Plan for Beaches and Recreational Water.” The Beaches Act and ORD's strategic plan has identified research on effects of microbial pathogens in recreational waters as a high-priority research area with particular emphasis on developing new water quality indicator guidelines for recreational waters. The EPA has broad legislative authority to establish water quality criteria and to conduct research to support these criteria. This data collection is for a series of epidemiological studies to evaluate exposure to and effects of microbial pathogens in marine and fresh recreational waters as part of the EPA's research program on exposure and health effects of microbial pathogens in recreational waters. The research plan includes piloting the collection of both recreational information and water quality information during the summer months of 2002. Multiple sites with refined study design will be conducted in 2003, 2004 and 2005. The information collected by this study program will be used to estimate the relationship between water quality indicators and health effects. The questionnaire health data will be compared with routinely collected water quality measurements. The analysis will focus on determining whether any water quality parameters are associated with increased prevalence of swimming-related health effects.

Burden Statement

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Table 1.—Estimated Annual Respondent Burden
Type of respondent | Respondent activities | Estimated number of respondents | Burden hours | Frequency | Annual reporting burden | Annual cost
Parent | Beach Interview | 1500 | 0.40 | 1 | 600 | \a\ $8,832
Parent | Complete home interview I (80%) | 1200 | 0.33 | 1 | 396 | \a\ 5,830
Parent | Complete home interview II (80%) | 960 | 0.17 | 1 | 163 | 2,400
Totals |  |  |  |  | 1,159 hr | 17,062
\a\ $14.72/hour (average hourly wage).

There are no direct respondent costs for this data collection.

No Annual Record Keeping Burden

An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Dated: February 4, 2002.
Linda Birnbaum,
Director, Human Studies Division, National Health & Environmental Effects Research Laboratory, Office of Research and Development.

[FR Doc. 02-3771 Filed 2-14-02; 8:45 am]

BILLING CODE 6560-50-P